DEPARTMENT OF THE INTERIOR

National Park Service

National Register of Historic Places; Notification of Pending Nominations and Related Actions

Nominations for the following properties being considered for listing or related actions in the National Register were received by the National Park Service before September 27, 2008.

Pursuant to section 60.13 of 36 CFR Part 60 written comments concerning the significance of these properties under the National Register criteria for evaluation may be forwarded by United States Postal Service to the National Register of Historic Places, National Park Service, 1849 C St., NW., 2280, Washington, DC 20240; by all other carriers, National Register of Historic Places, National Park Service,1201 Eye St., NW., 8th floor, Washington, DC 20005; or by fax, 202-371-6447. Written or faxed comments should be submitted by October 29, 2008.

J. Paul Loether,
Chief, National Register of Historic Places/National Historic Landmarks Program.

COLORADO

Jefferson County

North Fork Historic District (Boundary Increase), Six parcels of land along Co. Rds. 96 and 126 between South Platte and Pine Grove, Pine Grove, 08001028.

DISTRICT OF COLUMBIA

District of Columbia

Petworth Gardens (Apartment Buildings in Washington, DC, MPS), 124, 126, 128, and 130 Webster St., NW., Washington, DC, 08001029.

IOWA

Dubuque County

Dubuque Millworking Historic District (Dubuque, Iowa MPS), White, Jackson, Elm between E. 6th and E. 11th Sts., Dubuque, 08001030.

NEW HAMPSHIRE

Merrimack County

Old North Cemetery, North State St., Concord, 08001031.

NEW YORK

Delaware County

West Delhi Prebyterian Church, Manse, and Cemetery, 18 and 45 Sutherland Rd., West Delhi, 08001032.

Kings County

New York Congregational Home for the Aged, 123 Linden Blvd., Brooklyn, 08001033.

New York County

Garment Center Historic District, Roughly bounded by Sixth Ave. on the E., Ninth Ave. on the W., W. 35th St. on the S., and W. 41st St. on the N., New York, 08001034.

Yates County

Sampson Theatre, 130-136 E. Elm St., Penn Yan, 08001035.

WISCONSIN

Shawano County

Tigerton Village Hall and Engine House, 215 Cedar St., Tigerton, 08001036.

[FR Doc. E8-24230 Filed 10-10-08; 8:45 am]

BILLING CODE 4310-70-P